DEPARTMENT OF JUSTICE

Antitrust Division

Notice Pursuant to the National Cooperative Research and Production Act of 1993—the Oceanic Institute: Biosecure Zero-Exchange Shrimp Technology

Notice is hereby given that, on February 6, 2002, pursuant to section 6(a) of the National Cooperative Research and Production Act of 1993, 15 U.S.C. 4301 et seq. (“the Act”), The Oceanic Institute: Biosecure Zero-Exchange Shrimp Technology (BioZEST) has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to section 6(b) of the Act, the identities of the parties are PIC-USA, Berkeley, CA; Kahuku Shrimp Company, Kahuku, HI; Zeigler Brothers, Inc., Gardners, PA; and The Oceanic Institute, Waimanalo, HI. The nature and objectives of the venture are to develop and demonstrate an economically viable, environmentally responsible, and sustainable production system for shrimp in the U.S. using selectively bred animals in a closed environment that prevents the introduction of disease agents. The system entails zero exchange of water and is termed the “Biosecure Zero-exchange Shrimp Technology” or BioZEST. The activities of this joint venture project will be partially funded by an award from the Advanced Technology Program, National Institute of Standards and Technology, Department of Commerce.

Constance K. Robinson,
Director of Operations, Antitrust Division.

[FR Doc. 02-7029 Filed 3-22-02; 8:45 am]

BILLING CODE 4410-11-M